DEPARTMENT OF ENERGY

Federal Energy Regulatory Commission

Combined Notice of Filings #2

Take notice that the Commission received the following electric rate filings:

Docket Numbers: ER16-1150-001.

Applicants: Duke Energy Ohio, Inc., PJM Interconnection, L.L.C.

Description: Compliance filing: Duke Energy submits compliance filing per 5/13/16 order in Docket No. ER16-1150 to be effective 5/13/2016.

Filed Date: 6/1/16.

Accession Number: 20160601-5303.

Comments Due: 5 p.m. ET 6/22/16.

Docket Numbers: ER16-1832-000.

Applicants: Entergy Louisiana, LLC.

Description: Section 205(d) Rate Filing: ELL Nine Mile 6 Reactive to be effective 8/1/2016.

Filed Date: 6/1/16.

Accession Number: 20160601-5175.

Comments Due: 5 p.m. ET 6/22/16.

Docket Numbers: ER16-1833-000.

Applicants: Sempra Gas & Power Marketing, LLC.

Description: Baseline eTariff Filing: Sempra Gas & Power Marketing, LLC Petition for Market-Based Rates to be effective 8/1/2016.

Filed Date: 6/1/16.

Accession Number: 20160601-5189.

Comments Due: 5 p.m. ET 6/22/16.

Docket Numbers: ER16-1834-000.

Applicants: PJM Interconnection, L.L.C.

Description: Section 205(d) Rate Filing: Original WMPA SA No. 4474, Queue No. Z2-113 to be effective 5/23/2016.

Filed Date: 6/1/16.

Accession Number: 20160601-5268.

Comments Due: 5 p.m. ET 6/22/16.

Take notice that the Commission received the following electric reliability filings:

Docket Numbers: RD16-6-000.

Applicants: North American Electric Reliability Corporation.

Description: Petition of the North American Electric Reliability Corporation for Approval of Proposed Reliability Standards IRO-018-1 and TOP-010-1.

Filed Date: 07/01/16.

Accession Number: 20160526-5364.

Comments Due: 5 p.m. ET 6/27/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2016.
Nathaniel J. Davis, Sr.,
Deputy Secretary.

[FR Doc. 2016-13447 Filed 6-7-16; 8:45 am]

BILLING CODE 6717-01-P